DEPARTMENT OF AGRICULTURE

Natural Resource Conservation Service

Holbrook Lake Ditch Watershed, Otero County, CO

AGENCY: Natural Resource Conservation Service, USDA.

ACTION: Notice of a finding of no significant impact.

SUMMARY: Pursuant to Section 102(2)(c) of the National Environmental Policy Act of 1969; the Council on Environmental Quality Regulations (40 CFR Part 1500); and the Natural Resource Conservation Service Regulations (7 CFR Part 650); the Natural Resource Conservation Service, U.S. Department of Agriculture, gives notice that an environmental impact statement is not being prepared for the Holbrook Lake Ditch Watershed Project, Otero County, Colorado.

For further information contact Stephen F. Black, State Conservationist, Natural Resource Conservation Service, 655 Parfet St., Lakewood, Colorado, 80215-5517, telephone (303) 236-2886, ext. 202.

SUPPLEMENTARY INFORMATION: The environmental assessment of this federally assisted action indicates that the project will not cause significant local, regional, or national impacts on the environment. As a result of these findings, Stephen F. Black, State Conservationist, has determined that the preparation and review of an environmental impact statement are not needed for this project.

The project purpose is to reduce selenium, sediment and other pollutant loading to the Arkansas River due to ineffective irrigation water utilization. The planned works of improvement include on-farm underground irrigation pipelines, on-farm concrete irrigation ditches, land leveling, and underground drains. These enduring practices are accompanied by facilitating management practices such as Residue Management (seasonal).

The Notice of a Finding of No Significant Impact (FONSI) has been forwarded to the Environmental Protection Agency and to various Federal, State and Local agencies and interested parties. A limited number of copies of the FONSI are available to fill single copy requests at the above address. Basic data developed during the environmental assessment are on file and may be reviewed by contacting Stephen F. Black.

No administrative action on implementation of the proposal will be taken until 30 days after the date of this publication in the Federal Register.

(This activity is listed in the Catalog of Federal Domestic Assistance under No. 10904, Watershed Protection and Flood Prevention, and is subject to the provisions of Executive Order 12372, which requires intergovernmental consultation with State and local officials.)
Michael A. Gillespie,
Snow Survey Supervisor, Acting State Conservationist.

[FR Doc. 00-30061 Filed 11-24-00; 8:45 am]

BILLING CODE 3410-16-M